DEPARTMENT OF LABOR

Employment and Training Administration

[TA-W-64,138]

Premier Manufacturing Support Services, Shreveport, LA; Notice of Termination of Investigation

Pursuant to Section 221 of the Trade Act of 1974, as amended, an investigation was initiated on September 18, 2008 in response to a petition filed by the State Workforce Office on behalf of workers of Premier Manufacturing Support Services, Shreveport, Louisiana.

The petitioning group of workers is covered by an active certification, (TA-W-63,793) which expires on September 27, 2010. Consequently, further investigation in this case would serve no purpose, and the investigation has been terminated.

Signed at Washington, DC, this 9th day of October, 2008.
Elliott S. Kushner,
Certifying Officer, Division of Trade Adjustment Assistance.

[FR Doc. E8-24866 Filed 10-17-08; 8:45 am]

BILLING CODE 4510-FN-P